DEPARTMENT OF COMMERCE

International Trade Administration

[A-580-874, A-557-816, A-523-808, A-583-854, A-552-818]

Certain Steel Nails From the Republic of Korea, Malaysia, the Sultanate of Oman, Taiwan, and the Socialist Republic of Vietnam: Postponement of Preliminary Determination of Antidumping Duty Investigations

AGENCY: Enforcement and Compliance, International Trade Administration, Department of Commerce.

DATES: Effective Date: October 22, 2014.

FOR FURTHER INFORMATION CONTACT: Drew Jackson at 202-482-4406 (the Republic of Korea (Korea)), Ericka Ukrow at 202-482-0405 (Malaysia), Lilit Astvatsatrian at 202-482-6412 (the Sultanate of Oman (Oman)), Scott Hoefke at 202-482-4947 (Taiwan), or Edythe Artman at 202-482-3931 (the Socialist Republic of Vietnam (Vietnam)), AD/CVD Operations, Enforcement and Compliance, International Trade Administration, U.S. Department of Commerce, 14th Street and Constitution Avenue NW., Washington, DC 20230.

SUPPLEMENTARY INFORMATION:

Postponement of Preliminary Determinations

On June 25, 2014, the Department of Commerce (the Department) published a notice of initiation of antidumping duty investigations of certain steel nails from India, Korea, Malaysia, Oman, Taiwan, The Republic of Turkey, and Vietnam.¹ The notice of initiation stated that the Department, in accordance with section 733(b)(1)(A) of the Tariff Act of 1930, as amended (the Act), and 19 CFR 351.205(b)(1), would issue its preliminary determinations for these investigations, unless postponed, no later than 140 days after the date of initiation.² Accordingly, the preliminary determinations of the antidumping duty investigations of certain steel nails from Korea, Malaysia, Oman, Taiwan, and Vietnam are currently due no later than November 5, 2014.

¹ See Certain Steel Nails From India, the Republic of Korea, Malaysia, the Sultanate of Oman, Taiwan, the Republic of Turkey, and the Socialist Republic of Vietnam: Initiation of Less-Than-Fair-Value Investigations (Initiation Notice), 79 FR 36019 (June 25, 2014) (“Initiation Notice”). Note that the investigations for India and The Republic of Turkey were terminated as a result of the International Trade Commission's negative preliminary determination for those countries. See Initiation Notice, 79 FR at 36024 and the July 21, 2014, letter from the United States International Trade Commission.

² See Initiation Notice, 79 FR at 36024. Note that the signature date of the Initiation Notice, June 18, 2014, is the date of the initiation of these investigations.

On October 10, 2014, Mid Continent Steel & Wire, Inc. (Petitioner), pursuant to section 733(c)(1)(A) of the Act and 19 CFR 351.205(e), made timely requests for postponement of the preliminary determinations in these investigations.³ Petitioner requested a 42-day postponement of the preliminary determinations in light of the extraordinarily complicated nature of these proceedings, and in order to provide the Department with sufficient time to review the questionnaire responses and issue appropriate requests for clarification and additional information.

³ See Letter from Petitioner to the Secretary of Commerce, “Certain Steel Nails From the Republic of Korea: Petitioner's Request for Postponement of the Preliminary Determinations,” (October 10, 2014); Letter from Petitioner to the Secretary of Commerce, “Certain Steel Nails From Malaysia: Petitioner's Request for Postponement of Preliminary Determination,” (October 10, 2014); Letter from Petitioner to the Secretary of Commerce, “Certain Steel Nails From the Sultanate of Oman: Petitioner's Request for Postponement of Preliminary Determination,” (October 10, 2014); Letter from Petitioner to the Secretary of Commerce, “Certain Steel Nails From Taiwan: Petitioner's Request for Postponement of Preliminary Determination,” (October 10, 2014); and Letter from Petitioner to the Secretary of Commerce, “Certain Steel Nails From the Socialist Republic of Vietnam: Petitioner's Request for Postponement of Preliminary Determination,” (October 10, 2014).

For the reasons stated above and because there are no compelling reasons to deny the requests, the Department, in accordance with section 733(c)(1)(A) of the Act, is postponing the deadline for the preliminary determinations to no later than 182 days after the date on which the Department initiated these investigations. Therefore, the new deadline for issuing these preliminary determinations is December 17, 2014. In accordance with section 735(a)(1) of the Act, the deadline for the final determinations of these investigations will continue to be 75 days after the date of the preliminary determinations, unless postponed at a later date.

This notice is issued and published pursuant to section 733(c)(2) of the Act and 19 CFR 351.205(f)(1).

Dated: October 16, 2014.
Paul Piquado,
Assistant Secretary for Enforcement and Compliance.

[FR Doc. 2014-25192 Filed 10-21-14; 8:45 am]

BILLING CODE 3510-DS-P